DEPARTMENT OF AGRICULTURE

Forest Service

Beaverhead-Deerlodge National Forest, Dillon Ranger District; Montana; Birch, Willow, Lost Project

AGENCY: Forest Service, USDA.

ACTION: Notice of intent to prepare an environmental impact statement.

SUMMARY: The Birch, Willow, Lost Project proposes to treat vegetation communities in the four sub-watersheds that cover the project area. The scope of the project is limited to those portions of the four sub-watersheds covered by the project area boundary. This project is not a general management plan for the watersheds, nor is it a programmatic environmental analysis for vegetation communities.

DATES: Comments concerning the scope of the analysis will be most helpful if received by April 11, 2013. The draft environmental impact statement is expected October of 2013 and the final environmental impact statement is expected March of 2014.

ADDRESSES: Send written comments to: Attention Alex Dunn, Beaverhead-Deerlodge National Forest, 420 Barrett St., Dillon, MT 59725, and weekdays 7:30 a.m. to 4:30 p.m. for hand delivery. Comments may also be sent via email to: comments-northern-beaverhead-deerlodge@fs.fed.us in one of the following formats: Word (.doc or .docx), rich text format (.rtf), text (.txt), and/or hypertext markup language (.html). Please make sure to put BWL Project in the subject line. Comments may also be sent via facsimile to: Attention Alex Dunn, BWL Project 406-683-3886. For all forms of comment, make sure to include your name, physical address, phone number, and a subject title of BWL Project.

FOR FURTHER INFORMATION CONTACT: Mr. Alex Dunn, Forest Environmental Coordinator at (406) 683-3864 or via email at adunn@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

This action is being undertaken to contribute to the achievement of the following Beaverhead-Deerlodge Land and Resource Management Plan (Forest Plan) Objectives for vegetation within the project area: Aspen Component—Increase the aspen component within Lodgepole pine and other vegetation types, on 67,000 acres (Forest Plan pg. 44). Grassland/Shrubland/Riparian—Reduce conifer encroachment on 74,000 acres of riparian areas, shrublands, and grasslands (Forest Plan pg. 44). Resiliency—Reduce forest density in the large size classes of dry forest communities to maintain or improve resilient forest conditions (Forest Plan pg. 43). Whitebark Pine/Sub-Alpine Fir Type—Promote regeneration of Whitebark Pine on approximately 45,000 acres, largely through the use of fire (Forest Plan pg. 43). This project is needed because there is a difference between the existing condition and the desired condition for the above vegetation types in the project area.

Proposed Action

The responsible official proposes to:

—Treat a total of 13,282 acres of the 59,133 acres within the project area, in five dominant vegetation types in 133 Units in the project area. A total of 1,237 acres of Aspen would be treated through mechanical, commercial, burning, lop and scattering, and/or mastication. A total of 3,440 acres of Douglas-Fir would be treated through commercial thin, mastication, and/or burning. A total of 1,883 acres of Mountain Mahogany would be treated through lop and scatter and/or mastication. A total of 6,292 acres of Shrub-Grasslands would be treated through lop and scatter, burning/slashing, and/or mastication. A total of 430 acres of Mid and High Elevation Mixed Conifer would be modified through slashing with chainsaws, and/or burning. Planting limber pine may occur on about 100 acres due to the majority of seed-bearing limber pine trees being dead from mountain pine beetle. The extent of planting would be assessed after the prescribed burning is completed.

—Recondition and/or spot reconstruction of a total of 13.3 miles on five roads within the project area. Forest Road (FR) 7487 (Farlin Gulch) would have 1.7 miles Reconditioned/Spot Reconstructed. FR 98 (Birch Creek) would have 3.7 miles Reconditioned/Spot Reconstructed. FR 1211 (Gorge Creek) would have 1.1 miles Reconditioned/Spot Reconstructed. FR 7476 (Lower Willow Creek) would have 1.7 miles Spot Reconstructed. FR 8200 (Willow Creek) would have 5.1 miles Reconditioned/Spot Reconstructed.

—Construct one temporary road, aproximately one-half mile long.

—Use approximately 14 miles of existing system road and less than one mile of non-system route as haul routes.

—Implement additional actions on several system routes including replacement of 5 culverts, addition of one culvert, replacement of 2 fords with culverts, and hardening/armoring of 2 stream crossings.

—Treat units in Aspen, Douglas-Fir, Sagebrush-Grassland, Mountain Mahogany, and High-Elevation Mixed Conifer in approximately 2,821 acres in two Inventoried Roadless Area (IRA's), Call Mountain and East Pioneer. Treatments would include lop and scatter, slashing, pile burning, jackpot burning, underburning, “daylighting” with chainsaws, and mastication. All the trees to be cut would be generally small-diameter trees. No commercial recovery of any by-products of these treatments is proposed in the IRA's. One replacement of a ford with a culvert would also occur in the Call Mountain IRA.

—Treat two units, one Aspen and one High-Elevation Mixed Conifer, totaling 46.8 acres in the Torrey Mountain Recommended Wilderness. The Aspen would be treated with lop and scatter and the High-Elevation Mixed Conifer would be treated with daylighting of the Whitebark Pine with chainsaws only.

Possible Alternatives

1—No Action Alternative. Under this alternative there would be no treatment of the vegetation communities. Roads would not be reconditioned or reconstructed, and no culverts or fords would be replaced. Many of the proposed units will continue to have encroachment from conifers, decreased age class diversity, poor vigor, and higher susceptibility to insect and disease such as mountain pine beetle and blister rust.

Responsible Official

The Dillon District Ranger will be the responsible official.

Nature of Decision To Be Made

The decision to be made is whether to implement the proposed action, another alternative, or a combination of the alternatives.

Scoping Process

This notice of intent initiates the scoping process, which guides the development of the environmental impact statement. The project scoping map, as well as other project documents, can be viewed on the BDNF Web site at the following address: http://www.fs.usda.gov/projects/bdnf/landmanagement/projects. Hard copies may also be viewed at the Dillon District office in Dillon, MT or can be mailed upon request. To request hard or CD copies please contact Alex Dunn at (406) 683-3864 or adunn@fs.fed.us. It is important that reviewers provide their comments at such times and in such a manner that they are useful to the agency's preparation of the environmental impact statement. Therefore, comments should be provided prior to the close of the comment period and should clearly articulate the reviewer's concerns and contentions. Comments received in response to this solicitation, including names and addresses of those who comment, will be part of the public record for this proposed action. Comments submitted anonymously will be accepted and considered, however anonymous comments will not provide the Agency with the ability to provide the responder with subsequent environmental documentation.

Dated: March 5, 2013.
Cole Mayn,
Acting Dillon District Ranger.

[FR Doc. 2013-05574 Filed 3-11-13; 8:45 am]

BILLING CODE 3410-11-P